ENVIRONMENTAL PROTECTION AGENCY

[FRL-7673-1]

Science Advisory Board Staff Office; Notification of Upcoming Meeting of the Science Advisory Board Committee on Valuing the Protection of Ecological Systems and Services; Correction

AGENCY: Environmental Protection Agency (EPA).

ACTION: Notice; correction.

SUMMARY: The EPA Science Advisory Board (SAB) Staff Office published a notice in the Federal Register of June 1, 2004, announcing a public meeting for the SAB's Committee on Valuing the Protection of Ecological Systems and Services (C-VPESS) on June 13-14, 2004. The notice contained incorrect dates.

FOR FURTHER INFORMATION CONTACT: Dr. Angela Nugent, Designated Federal Officer, via telephone/voice mail at (202) 343-9981, via e-mail at nugent.angela@epa.gov or by mail at: U.S. EPA SAB (MC 1400F), 1200 Pennsylvania Ave., NW., Washington, DC 20460. General information about the SAB can be found in the SAB Web site at: http://www.epa.gov/sab.

Correction

In the Federal Register of June 1, 2004, in FR Doc. 04-12306, on page 30908, correct the DATES caption to read:

DATES: June 14-15, 2004. The meeting will commence at 9 a.m. and adjourn at 5 p.m. (eastern time) on each day.

Dated: June 2, 2004.
Vanessa T. Vu,
Director, EPA Science Advisory Board Staff Office.

[FR Doc. 04-13286 Filed 6-10-04; 8:45 am]

BILLING CODE 6560-50-P